DEPARTMENT OF ENERGY

Federal Energy Regulatory Commission

[Docket No. CP19-14-002]

Mountain Valley Pipeline, LLC; Notice of Request for Extension of Time

Take notice that on June 15, 2023, Mountain Valley Pipeline, LLC (Mountain Valley), requested that the Federal Energy Regulatory Commission (Commission) grant an extension of time until June 18, 2026, to complete construction of the MVP Southgate Project (Southgate Project) and place the Southgate Project facilities into service, as authorized in the June 18, 2020 Order Issuing Certificate (Certificate Order),¹ under Section 7 of The Natural Gas Act.

¹ Mountain Valley Pipeline, LLC, 171 FERC ¶ 61,232 (2020), order on reh'g, 172 FERC ¶ 61,261 (2020), aff'd sub. nom., Sierra Club, et al. v. FERC, 38 F.4th 220 (D.C. Cir. 2022).

On June 24, 2022, Mountain Valley filed a motion requesting a four-year extension of time, until October 13, 2026, to construct and place into service the Mountain Valley Pipeline Project (Mainline System) and the Greene Interconnect.² The extension of time for the Mainline System was granted on August 23, 2022.³

² Mountain Valley Pipeline, LLC, June 24, 2022 Request for Extension of Time. The Mountain Valley Pipeline Project was certificated in Docket No. CP16-10-000 and amended in Docket No. CP21-477-000. The Greene Interconnect Project was authorized in Docket No. CP19-477-000 pursuant to Mountain Valley's blanket certificate.

³ Mountain Valley Pipeline, LLC, 180 FERC ¶ 61,117 (2022).

Mountain Valley states that construction and completion of the Mainline System has been delayed due to persistent litigation and resultant repetitive permitting processes. The Southgate Project has experienced its own permitting delays, some of which is directly tied to Mainline System permitting.⁴

⁴ Mountain Valley Pipeline, LLC v. N.C. Dep't of Env't Quality, 990 F.3d 818, 833 (4th Cir. 2021).

Mountain Valley asserts that even if the Southgate Project had all of its permits, the Mainline System permitting delays would have prevented Mountain Valley from commencing construction of the Southgate Project under the terms of the Certificate Order. In its request Mountain Valley avers that the circumstances have changed because President Biden signed legislation that will expedite the completion of the Mainline System.⁵ Mountain Valley affirms that it is awaiting permits from the U.S. Army Corps of Engineers and approval from the Commission to resume full construction of the Mainline System. Mountain Valley is targeting to complete construction and commence service on the Mainline System by the end of 2023. After resolving Mainline System permitting, Mountain Valley plans to resume its permitting efforts for the Southgate Project.

⁵ Fiscal Responsibility Act of 2023, H.R. 3746, 118th Cong. § 324 (2023).

This notice establishes a 15-calendar day intervention and comment period deadline. Any person wishing to comment on Mountain Valley's request for an extension of time may do so. No reply comments or answers will be considered. If you wish to obtain legal status by becoming a party to the proceedings for this request, you should, on or before the comment date stated below, file a motion to intervene in accordance with the requirements of the Commission's Rules of Practice and Procedure (18 CFR 385.214 or 385.211) and the Regulations under the Natural Gas Act (18 CFR 157.10).

As a matter of practice, the Commission itself generally acts on requests for extensions of time to complete construction for Natural Gas Act facilities when such requests are contested before order issuance. For those extension requests that are contested,⁶ the Commission will aim to issue an order acting on the request within 45 days.⁷ The Commission will address all arguments relating to whether the applicant has demonstrated there is good cause to grant the extension.⁸ The Commission will not consider arguments that re-litigate the issuance of the certificate order, including whether the Commission properly found the project to be in the public convenience and necessity and whether the Commission's environmental analysis for the certificate complied with the National Environmental Policy Act.⁹ At the time a pipeline requests an extension of time, orders on certificates of public convenience and necessity are final and the Commission will not re-litigate their issuance.¹⁰ The OEP Director, or his or her designee, will act on all of those extension requests that are uncontested.

⁶ Contested proceedings are those where an intervenor disputes any material issue of the filing. 18 CFR 385.2201(c)(1) (2022).

⁷ Algonquin Gas Transmission, LLC, 170 FERC ¶ 61,144, at P 40 (2020).

⁸ Id. at P 40.

⁹ Similarly, the Commission will not re-litigate the issuance of an NGA section 3 authorization, including whether a proposed project is not inconsistent with the public interest and whether the Commission's environmental analysis for the permit order complied with NEPA.

¹⁰ Algonquin Gas Transmission, LLC, 170 FERC ¶ 61,144, at P 40 (2020).

In addition to publishing the full text of this document in the Federal Register, the Commission provides all interested persons an opportunity to view and/or print the contents of this document via the internet through the Commission's Home Page (http://www.ferc.gov) using the “eLibrary” link. Enter the docket number excluding the last three digits in the docket number field to access the document. At this time, the Commission has suspended access to the Commission's Public Reference Room. For assistance, contact FERC at FERCOnlineSupport@ferc.gov or call toll-free, (886) 208-3676 or TTY, (202) 502-8659.

The Commission strongly encourages electronic filings of comments in lieu of paper using the “eFile” link at http://www.ferc.gov. In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Comment Date: 5:00 p.m. Eastern Time on July 7, 2023.

Kimberly D. Bose,
Secretary.

[FR Doc. 2023-13759 Filed 6-27-23; 8:45 am]

BILLING CODE 6717-01-P